DEPARTMENT OF ENERGY

Federal Energy Regulatory Commission

[Project Nos. 14298-000; 14299-000; 14301-000; 14302-000]

SV Hydro LLC; Coffeeville LLC; FFP Project 99 LLC; Lock Hydro Friends Fund XIV; Notice of Competing Preliminary Permit Applications Accepted for Filing and Soliciting Comments, Motions To Intervene, and Competing Applications

On October 3, 2011, SV Hydro LLC (SV Hydro), Coffeeville LLC (Coffeeville), FFP Project 99 LLC (FFP 99), and Lock Hydro Friends Fund XIV (Lock Hydro) filed preliminary permit applications, pursuant to section 4(f) of the Federal Power Act, proposing to study the feasibility of a hydropower project at the U.S. Army Corps of Engineers' (Corps) Coffeeville Lock & Dam, located on the Tombigbee River in Choctaw and Clarke Counties, Alabama. The sole purpose of a preliminary permit, if issued, is to grant the permit holder priority to file a license application during the permit term. A preliminary permit does not authorize the permit holder to perform any land-disturbing activities or otherwise enter upon lands or waters owned by others without the owners' express permission.

SV Hydro's Project No. 14298-000 would consist of: (1) A 200-foot-long, 100-foot-wide intake channel; (2) a powerhouse containing one generating unit with a total capacity of 36.0 megawatts (MW); (3) a 250-foot-long, 100-foot-wide tailrace; (4) a 2.7-mile-long, 69.0 kilo-volt (kV) transmission line. The proposed project would have an average annual generation of 87.0 gigawatt-hours (GWh), and operate run-of-river utilizing surplus water from the Coffeeville Lock & Dam, as directed by the Corps.

Applicant Contact: Mr. Douglas Spaulding, Nelson Energy, 8441 Wayzata Blvd., Suite 101, Golden Valley, MN 55426. (952) 544-8133.

Coffeeville's Project No. 14299-000 would consist of: (1) A forebay; (2) an intake structure; (3) a powerhouse containing two generating units with a total capacity of 19.0 MW; (4) a tailrace structure; and (5) a 1.0-mile-long, 38 KV transmission line. The project would have an estimated average annual generation of 78.0 GWh, and operate run-of-river utilizing surplus water from the Coffeeville Lock & Dam, as directed by the Corps.

Applicant Contact: Mr. Vincent Lamarra, Symbiotics LLC, 975 South State Highway 89/91, Logan, UT 84321. (435) 752-2580.

FFP 99's Project No. 14301-000 would consist of: (1) An 250-foot-long, 120-foot-wide approach channel; (2) a powerhouse, located on the north side of the dam, containing two generating units with a total capacity of 10.0 MW; (3) a 275-foot-long, 120-foot-wide tailrace; (4) a 4.16/46 KV substation; (5) a 1.0-mile-long, 46 kV transmission line; and (6) a 2,100-foot-long new access road to the powerhouse. The proposed project would have an average annual generation of 50.0 GWh, and operate run-of-river utilizing surplus water from the Coffeeville Lock & Dam, as directed by the Corps.

Applicant Contact: Ms. Ramya Swaminathan, Free Flow Power Corp., 239 Causeway Street, Suite 300, Boston, MA 02114. (978) 283-2822.

Lock Hydro's Project No. 14302-000 would consist of: (1) One lock frame module, the frame module will be placed in a new conduit and contain twelve generating units with a total combined capacity of 27.0 MW; (2) a new switchyard containing a transformer; and (3) a proposed 1.0-mile-long, 34.5 kV transmission line to an existing power line. The proposed project would have an average annual generation of 153.738 GWh, and operate run-of-river utilizing surplus water from the Coffeeville Lock & Dam, as directed by the Corps.

Applicant Contact: Mr. Wayne F. Krouse, Hydro Green Energy, 5090 Richmond Avenue #390, Houston, TX 77056. (877) 556-6566.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14298-000, P-14299-000, 14301-000, or P-14302-000) in the docket number field to access the document. For assistance, contact FERC Online Support.

Dated: November 23, 2011.
Kimberly D. Bose,
Secretary.

[FR Doc. 2011-30867 Filed 11-30-11; 8:45 am]

BILLING CODE 6717-01-P